DEPARTMENT OF COMMERCE

International Trade Administration

Safety and Security Equipment and Services Trade Mission To Brazil

AGENCY: International Trade Administration, Department of Commerce.

ACTION: Notice.

Mission Description

The United States Department of Commerce's International Trade Administration, U.S. and Foreign Commercial Service, is organizing a Trade Mission to Brazil, to be led by a Department of Commerce official. This event is intended to tap immediate opportunities in the private and public security areas in Rio de Janeiro, Brasilia and Sao Paulo. The mission will include representatives from a variety of U.S. safety and security equipment firms interested in gaining a foothold in the fast-growing Brazilian markets.

Commercial Setting

Brazil is the largest economy and population in Latin America, and offers considerable export opportunities for the United States. The Brazilian market for public and private security equipment and services in 2009 was valued at approximately $ 20 billion. Due to an increasing level of crime rates in Brazil, local trade contacts believe that the market will expand by 20 percent in 2010.

According to the Brazilian Association of Electronic Security Companies (ABESE), approximately 5,000 companies serve the electronic security sector in Brazil, including equipment manufacturers, distributors, retailers, and services providers. The increase of security monitoring services and security devices in residences contributed to the fast expansion of the sector.

U.S. products enjoy good receptivity among large Brazilian and multinational companies that demand quality, durability and state-of-the-art technology. However, Chinese manufacturers are challenging the U.S. market share by offering similar products at lower prices. They are reportedly stepping up aggressive marketing techniques.

The federal government plans to invest in areas such as building and refurbishing existing prisons and police stations, training, communications systems improvements, vehicles, helicopters, airport security equipment, bullet proof vests, cameras, ammunition, guns, GPS systems, cellular phone blocking systems (for prisons), fire protection systems, and intelligence equipment. The Brazilian government will also invest heavily in high-tech equipment to provide adequate security for the 2014 World Cup and the 2016 Olympics, both to be held in Brazil. The Brazilian federal government will be in charge of managing World Cup security, and anticipates numerous investments in security improvements for the Games and the host cities.

In private security alone, Brazil spent over US$ 17 billion in 2008. In electronic security, the market is estimated at US$ 1.5 billion. Today, electronic security equipment is not limited only to banks and commercial or industrial buildings. The increase in security monitoring services and security devices for residences is contributing to the fast expansion of this market. The U.S. manufacturers of security equipment have been operating successfully in Brazil, holding approximately 50% of the import market, mainly for electronic security.

Mission Goals

The mission's goal is to provide first-hand market information and to provide access to key government officials and potential business partners for U.S. security firms desiring to expand their presence in the Brazilian market. The need to protect individuals, property and the government from losses and to protect assets is creating new opportunities for U.S. firms in this market.

Mission Scenario

The mission will include meetings with individuals from both the public sector (e.g., public security authorities and officials) and private business (e.g., local security systems companies). Participants will receive a briefing that will include market intelligence, as well as an overview of the country's economic and political environment. A networking reception is planned at each stop.

The mission will also include a brief about the Soccer World Cup 2014 and 2016 Olympics organizations, briefings by public security authorities on planned projects and expected infrastructure and security needs, and one-on-one business meetings between U.S. participants and potential end-users and partners. Follow-on business meetings in other cities in the region can be set up before or after the trade mission for an additional price, depending on participants' wishes.

Proposed Mission Timetable

The proposed schedule allows for about a day and a half in Rio de Janeiro and São Paulo and a visit to Brasilia for companies interested in introducing their products to the Brazilian Government. Efforts will be made to accommodate participating companies with particular interests that require individual schedules within one stop.

Sunday, September 26 Rio de Janeiro, Brazil | Mission arrives in Rio de Janeiro, Brazil.
Monday, September 27 | Welcome briefing and technical visit.
| Meeting with the Brazilian Soccer Federation.
| Networking reception.
Tuesday, September 28 | Business matchmaking: 1 full day of appointments.
| Participants will depart Rio de Janeiro the afternoon of Tuesday, September 28, by air, and proceed to Sao Paulo.
Wednesday, September 29 Sao Paulo, Brazil | The Mission's second stop—Sao Paulo.
| Welcome briefing.
| Business matchmaking: 1 full day of appointments.
| The delegation will depart Sao Paulo; participants are free to depart for their home destinations the evening of September 29.
Thursday, September 30 Brasilia, Brazil (optional) | The Mission's third and last stop—Brasilia.
| Welcome briefing and business matchmaking with Brazilian Federal government authorities. End of Mission.

Participation Requirements

All parties interested in participating in the Safety Security Trade Mission to Brazil must complete and submit an application package for consideration by the Department of Commerce. All applicants will be evaluated on their ability to meet certain conditions and best satisfy the selection criteria as outlined below. A minimum of twelve U.S. companies and maximum of 15 companies will be selected to participate in the mission from the applicant pool.

The target participants will include U.S. companies specializing in the following areas:

Best sales prospects-public security: | Best sales prospects-private security
• Radio and Communications Devices | • Car Armoring and Theft Protection
• Bulletproof Vests | • Electronic Security
• Investigation Software | • Cargo Tracking Systems
• Biometric Equipment (facial, fingerprint, and iris recognition) | • Access Control Systems
• Cameras and Associated Software | • Burglar Alarms
• GPS Systems | • Fire Sensors and Alarms
• Fire Protection Systems | • Closed-Circuit TV (CCTV) Systems
• Prison Management | • Residential Security Devices
• Criminal Investigation and Police Intelligence Systems

Fees and Expenses

After a company has been selected to participate in the mission, a payment to the Department of Commerce in the form of a participation fee is required. The participation fee is $3,700 per company for small or medium enterprises (SME ¹) and $5,200 per company for large firms. If a company chooses not to participate in the Brasilia option, $400 will be deducted from the participation fee. The fee for each additional firm representative (large firm or SME) is $500 per person. Expenses for lodging, transportation between stops, most meals, and incidentals will be the responsibility of each mission participant.

¹ An SME is defined as a firm with 500 or fewer employees or that otherwise qualifies as a small business under SBA regulations (see http://www.sba.gov/services/contractingopportunities/sizestandardstopics/index.html). Parent companies, affiliates, and subsidiaries will be considered when determining business size. The dual pricing reflects the Commercial Service's user fee schedule that became effective May 1, 2008 (see http://www.export.gov/newsletter/march2008/initiatives.html for additional information).

Conditions for Participation

• An applicant must submit a completed and signed mission application and supplemental application materials, including adequate information on the company's products and/or services, primary market objectives, and goals for participation. If the Department of Commerce receives an incomplete application, the Department may reject the application, request additional information, or take the lack of information into account when evaluating the applications.

• Each applicant must also certify that the products and services it seeks to export through the mission are either produced in the United States, or, if not, marketed under the name of a U.S. firm and have at least 51 percent U.S. content of the value of the finished product or service.

Selection Criteria for Participation

• Suitability of the company's products or services to the target sectors and markets;

• Applicant's potential for business in the target markets, including likelihood of exports resulting from the mission; and

• Relevance of the company's business line to the mission's goals.

Referrals from political organizations and any documents containing references to partisan political activities (including political contributions) will be removed from an applicant's submission and not considered during the selection process.

Timeframe for Recruitment and Applications

Mission recruitment will be conducted in an open and public manner, including publication in the Federal Register, posting on the Commerce Department trade mission calendar http://www.trade.gov/doctm/tmcal.html and other Internet Web sites, press releases to general and trade media, direct mail, broadcast fax, notices by industry trade associations and other multiplier groups, and publicity at industry meetings, symposia, conferences, and trade shows. The U.S. Commercial Service office in Brazil in cooperation with the International Trade Administration's Global Safety and Security Team will lead recruitment activities.

Recruitment will begin immediately and conclude no later than Monday, July 1, 2010. The U.S. Department of Commerce will review all applications immediately after the deadline. We will inform applicants of selection decisions as soon as possible after July 1, 2010. Applications received after the deadline will be considered only if space and scheduling constraints permit.

Interested U.S. firms may contact the mission project officer listed below or visit the mission Web site: http://www.buyusa.gov/florida/brazilmission.html.

Contacts

Genard Burity, Business Development Specialist, U.S. Commercial Service, U.S. Consulate, Av. Presidente Wilson, 147-4 Floor, Rio de Janeiro, Brazil, Phone: (55 21) 3823-2401, Fax: (55 21) 3823-2424, E-mail: genard.burity@trade.gov;

Stephanie Heckel, International Trade Specialist, U.S. Commercial Service, Ft. Lauderdale U.S. Export Assistance Center, 200 E. Las Olas Blvd., Suite 1600, Ft. Lauderdale, FL 33301, Tel: 954-356-6640, ext. 19, Fax: 954-356-6644, E-mail: stephanie.heckel@trade.gov.

Natalia Susak,
Global Trade Programs, Commercial Service Trade Missions Program.

[FR Doc. 2010-14700 Filed 6-21-10; 8:45 am]

BILLING CODE P